DEPARTMENT OF HEALTH AND HUMAN SERVICES

Administration for Children and Families

Proposed Information Collection Activity; Comment Request

Proposed Projects

Title: Information Collections Related to Reunificiation Procedures for Unaccompanied Alien Children.

OMB No: New Collection.

Description: Following the passage of the 2002 Homeland Security Act (Pub. L. 107-296), the Administration for Children and Families (ACF), Office of Refugee Resettlement (ORR), is charged with the care and placement of unaccompanied alien children in Federal custody, and implementing a policy for the release of these children, when appropriate, upon the request of suitable sponsors while awaiting immigration proceedings. In order for ORR to make determinations regarding the release of these children, the potential sponsors must meet certain conditions pursuant to section 462 of the Homeland Security Act and the Flores v. Reno settlement agreement, No. CV85-4544-RJK (C.D. Cal. 1997). ORR considers the suitability of a sponsor based on the sponsor's ability and agreement to provide for the physical, mental and financial well-being of an unaccompanied minor and the sponsor's assurance to appear before immigration courts. To ensure the safety of the children, sponsors must undergo a background check. Suitable sponsors may be parents, close relatives, friends or entities concerned with the child's welfare. In this Notice, ACF announces that it proposes to employ the use of several information collections for recording: (1) The Sponsor's Agreement to Conditions of Release, which collects the sponsor's affirmation to the terms of the release; (2) the Verification of Release, which collects the children's affirmation to the terms of their release; (3) the Family Reunification Packet, which collects information related to the sponsor's ability to provide for the physical, mental and financial well-being of the child(ren); and (4) the Authorization for Release of Information, which collects information to be utilized for a background check.

Respondents: Potential sponsors of unaccompanied alien children and unaccompanied alien children in Federal custody.

Annual Burden Estimates
Instrument | Number of respondents | Number of responses per respondent | Average burden hours per response | Total burden hours
Sponsor's Agreement | 3,000 | 1 | .166666 | 500
Verification of Release | 3,000 | 1 | .166666 | 500
Family Reunification Packet | 3,000 | 20 | .05 | 3,000
Authorization for Release of Information | 3,000 | 12 | .05 | 1,800

Estimated Total Annual Burden Hours: 5,800.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 24, 2004.
Robert Sargis,
Reports Clearance Officer.

[FR Doc. 04-26379 Filed 11-29-04; 8:45 am]

BILLING CODE 4184-01-M